DEPARTMENT OF EDUCATION

RIN 1865-ZA01

[CFDA 84.184E]

Office of Safe and Drug-Free Schools; Notice of Final Priority and Other Application Requirements

AGENCY: Office of Safe and Drug-Free Schools, Department of Education.

ACTION: Notice of final priority and other application requirements.

SUMMARY: The Deputy Under Secretary for Safe and Drug-Free Schools announces a priority and other application requirements under the Emergency Response and Crisis Management Grant program. The Deputy Under Secretary may use this priority and these application requirements for competitions in fiscal year (FY) 2004 and later years. We intend the priority to focus Federal financial assistance on supporting grants to local educational agencies (LEAs) in improving and strengthening emergency response and crisis management plans.

DATES: Effective Date: This priority and other application requirements is effective June 28, 2004.

FOR FURTHER INFORMATION CONTACT: Sara Strizzi, U.S. Department of Education, 400 Maryland Avenue, SW., room 3E320, Washington, DC 20202. Telephone: (202) 708-4850 or via Internet: sara.strizzi@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: The events of September 11, 2001, made schools and communities aware that, in addition to planning for traditional crises and emergencies, schools must now plan to respond to possible terrorist attacks on campus or in the community. The purpose of this program is to support LEA projects to improve and strengthen emergency response and crisis management plans, at the district and school-building level, addressing the four phases of crisis planning: Prevention/Mitigation, Preparedness, Response, and Recovery. Plans must include training for school personnel, students, and parents in emergency response procedures and must include coordination with local law enforcement, public safety, health, and mental health agencies.

We published a notice of proposed priority and other application requirements for this program in the Federal Register on March 25, 2004 (69 FR 15303).

There are no differences between the notice of proposed priority and other application requirements and this notice of final priority and other application requirements.

Analysis of Comments and Changes: In response to our invitation in the notice of proposed priority and other application requirements, two parties submitted comments. An analysis of the comments follows. None of the comments resulted in changes in the priority and other application requirements since publication of the notice of proposed priority and other application requirements.

Generally, we do not address technical and other minor changes and suggested changes we are not authorized to make under the applicable statutory authority.

Comment: One commenter recommended requiring coordination with local substance abuse agencies and/or behavioral health providers. In addition, the commenter requested that applicants be required to show how both mental health and substance abuse concerns will be addressed among school-aged youth.

Discussion: In some States and localities, local substance abuse prevention agencies are separate from mental health agencies. In other States and localities, the mental health and substance abuse authorities at the State and local level are combined. Because of the variation in these structures, we would have no way of knowing which applicants are in localities in which separate local agencies for public mental health and substance prevention exist, and which would require an additional Emergency Response and Crisis Management partner if we adopted the change requested by the commenter. As a result, we would be unable to make an accurate determination regarding an applicant's eligibility. We strongly encourage applicants for grants under this program to partner with a range of community organizations and entities whose participation would enhance and support their emergency response and crisis management plan. Those LEAs situated in localities that have a separate local substance abuse prevention agency certainly may include that agency as an Emergency Response and Crisis Management partner; and activities included under the Recovery Phase of crisis response planning certainly may include activities related to substance abuse needs among school-aged youth as related to a particular crisis, and we encourage all LEAs to address those potential needs in their comprehensive plans. However, given the variation in the structure of local substance abuse prevention agencies and mental health agencies described above, it is not administratively feasible under this competition to require all LEA applicants to have a local substance abuse prevention agency as a partner as a condition for receiving one of these grants.

Change: None.

Comment: One commenter suggested that the priority allow for funding of a school-based Public Access Defibrillation Program.

Discussion: The priority does not preclude implementation of a school-based Public Access Defibrillation Program.

Change: None.

Note: This notice does not solicit applications. In any year in which we choose to use this priority and other application requirements, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Improvement and Strengthening of School Emergency Response and Crisis Management Plans

The priority supports LEA projects to improve and strengthen emergency response and crisis management plans, at the district and school building level, addressing the four phases of crisis planning: Prevention/Mitigation, Preparedness, Response, and Recovery. Plans must include training for school personnel, students, and parents in emergency response procedures and must include coordination with local law enforcement, public safety, health, and mental health agencies.

Other Application Requirements

In order to develop high-quality emergency response and crisis management plans under this priority, LEAs need to involve community partners in all aspects of planning. We establish the following application requirements:

To be considered for a grant award, an applicant must include in its application an agreement that details the participation of the LEA and the following five community-based partners from the local area: Law enforcement, public safety, health, mental health, and the head of the applicant's local government (for example the mayor, city manager, or county executive). The agreement must detail the roles and responsibilities that each of the required partners will have in improving and strengthening the plan. The agreement must also reflect each partner's commitment to sustainability and continuous improvement of the plan. Finally, the agreement must include an authorized signature representing the LEA and each community-based partner.

If one or more of the five partners listed is not present in the applicant's community, or cannot feasibly participate, the agreement must explain the absence of each missing partner. To be considered eligible for funding, however, an application must include signed agreements from at least the LEA and two of the required five partners, and explanations for the absence of any of the remaining required partners.

Applications that fail to include the required agreement, including roles and responsibilities, commitment to sustainability and continuous improvement (with signatures and explanations for missing signatures as specified above), will not be read.

Furthermore, all emergency response and crisis management plans must be coordinated with the Homeland Security Plan of the State in which the LEA is located. All States submitted such a plan to the Department of Homeland Security on January 30, 2004. To ensure that emergency services are coordinated within the State, the LEA must follow the requirements of the State Homeland Security Plan for informing and working with State personnel on emergency services and initiatives.

Although this program requires partnerships with other parties, administrative direction and fiscal control for the project must remain with the LEA.

The plan must also take into consideration the communication, transportation, and medical needs of individuals with disabilities within this community.

Grantees who received funding under this priority in FY 2003 are not eligible applicants for FY 2004.

Executive Order 12866

This notice of final priority and other application requirements has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority and other application requirements, we have determined that the benefits of the final priority and other application requirements justify the costs.

We have also determined that this regulatory action does not unduly interfere with state, local, and tribal governments in the exercise of their governmental functions.

We summarized the costs and benefits in the notice of proposed priority and other application requirements.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR parts 75, 77, 79, 80, 81, 82, 84, 85, 97, 98, 99, and 299.

Electronic Access to This Document

You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following sites: www.ed.gov/emergencyplan and www.ed.gov/offices/OSDFS.

Note: The official version of this document is the document published in the Federal Register. Free Internet access to the official edition of the Federal Register and the Code of Federal Regulations is available on GPO Access at: www.gpoaccess.gov/nara/index.html.

Program Authority: 20 U.S.C. 7131.

(Catalog of Federal Domestic Assistance Number 84.184.E-Emergency Response and Crisis Management Grant program)
Dated: May 25, 2004.
Deborah A. Price,
Deputy Under Secretary for Safe and Drug-Free Schools.

[FR Doc. 04-12170 Filed 5-27-04; 8:45 am]

BILLING CODE 4000-01-U